SECURITIES AND EXCHANGE COMMISSION

[Release No. 34-104739; File No. SR-BX-2026-006]

Self-Regulatory Organizations; Nasdaq BX, Inc.; Notice of Filing and Immediate Effectiveness of Proposed Rule Change To Amend Its Rules To Reflect a Legal Name Change

January 29, 2026.

Pursuant to Section 19(b)(1) of the Securities Exchange Act of 1934 (“Act”) ¹ and Rule 19b-4 thereunder,² notice is hereby given that on January 21, 2026, Nasdaq BX, Inc. (“BX” or “Exchange”) filed with the Securities and Exchange Commission (“Commission”) the proposed rule change as described in Items I, II, and III below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange proposes to amend its rules to reflect a legal name change. The text of the proposed rule change is available on the Exchange's website at https://listingcenter.nasdaq.com/rulebook/bx/rulefilings, and at the principal office of the Exchange.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in sections A, B, and C below, of the most significant aspects of such statements.

A. Self-Regulatory Organization's Statement of the Purpose of, and the Statutory Basis for, the Proposed Rule Change

1. Purpose

The Exchange intends to convert from a corporation organized under the laws of the state of Delaware to a limited liability company (“LLC”) organized under the laws of the state of Texas.³ In conjunction with the conversion, the Exchange is changing its legal name to Nasdaq Texas, LLC.⁴ The purpose of this filing is to reflect in the Exchange's Rulebook a non-substantive change to the Exchange's current name to reflect the new legal name. Specifically, current references to “Nasdaq BX” and “BX” (with the exception of the Options Rules) will be changed to “Nasdaq Texas.” Current references to “Nasdaq BX, Inc.” will be changed to “Nasdaq Texas, LLC.” Also, current references to “BX Options” or “BX” within the Options Rules will be changed to “NTX Options” or “NTX.” No other changes are being proposed in this filing.

³ See SR-BX-2026-005 filed on January 21, 2026, available at https://listingcenter.nasdaq.com/rulebook/BX/rulefilings.

⁴ Id.

In addition to the aforementioned amendments, the Exchange proposes to re-number and arrange General 1, Section 1, Definitions, to alphabetize the definitions based on the name changes. The Exchange also proposes to modify Options 1, Section 1, Definitions, at (a)(8) to state, “The term “Nasdaq Texas Options” or “NTX” shall refer to the NTX Options Market, an options trading facility of the Exchange under Section 3(a)(2) of the Exchange Act.” ⁵ The Exchange also proposes to renumber and rearrange Options 1, Section 1(a) to alphabetize the definitions based on the name changes. The Exchange is not proposing to make any name changes within Equity 3 because the Exchange has submitted a separate filing which will delete the current provisions in Equity 3 and mark the section as reserved.⁶

⁵ Currently, Options 1, Section 1(a)(8) states, the term “BX Options” means the BX Options Market, an options trading facility of the Exchange under Section 3(a)(2) of the Exchange Act.

⁶ See BX-2026-004 filed on January 16, 2026, available at https://listingcenter.nasdaq.com/assets/rulebook/bx/filings/SR-BX-2026-004.pdf.

The Exchange represents that these changes are concerned solely with the administration of the Exchange and do not affect the meaning, administration, or enforcement of any rules of the Exchange or the rights, obligations, or privileges of Exchange members or their associated persons in any way. Accordingly, this filing is being submitted under Rule 19b-4(f)(3). In lieu of providing a copy of the marked changes, the Exchange represents that it will make the necessary non-substantive revisions to the Rulebook and post an updated version on the Exchange's website pursuant to Rule 19b-4(m)(2). The Exchange notes that any name with a trademark (TM) or service mark (SM) attached to the name will not be amended.

2. Statutory Basis

The Exchange believes that its proposal is consistent with Section 6(b) of the Act,⁷ in general, and furthers the objectives of Section 6(b)(5) of the Act,⁸ in particular, in that it is designed to promote just and equitable principles of trade, to remove impediments to and perfect the mechanism of a free and open market and a national market system, and, in general to protect investors and the public interest by avoiding confusion with the name. The Exchange proposes to amend its rules to reflect the conversion of the Exchange to a Texas entity and to reflect a legal name change by changing the name throughout the Rulebook from “Nasdaq BX” and “BX” to “Nasdaq Texas.” The proposed changes will not substantively impact the Exchange's existing rules or its current obligations and requirements under its governing documents or the Act, including Section 6(b)(3) of the Act.⁹ The Exchange is not proposing any changes to its rules or various fee schedules other than the technical amendments to implement the conversion to a Texas corporation and the name change. Additionally, no changes to the ownership or structure of the Exchange have taken place as a result of this proposal.

⁷ 15 U.S.C. 78f(b).

⁸ 15 U.S.C. 78f(b)(5).

⁹ 15 U.S.C. 78f(b)(3).

B. Self-Regulatory Organization's Statement on Burden on Competition

The Exchange does not believe that the proposed rule change will impose any burden on competition not necessary or appropriate in furtherance of the purposes of the Act. The name change will reflect the conversion to a Texas LLC and the new name that will be used in the current governing documents of the Exchange.

C. Self-Regulatory Organization's Statement on Comments on the Proposed Rule Change Received From Members, Participants, or Others

No written comments were either solicited or received.

III. Date of Effectiveness of the Proposed Rule Change and Timing for Commission Action

Pursuant to Section 19(b)(3)(A) of the Act ¹⁰ and Rule 19b-4(f)(3) thereunder,¹¹ the Exchange has designated this proposal as one that is concerned solely with the administration of the self-regulatory organization, and therefore has become effective.

¹⁰ 15 U.S.C. 78s(b)(3)(A).

¹¹ 17 CFR 240.19b-4(f)(3).

At any time within 60 days of the filing of the proposed rule change, the Commission summarily may temporarily suspend such rule change if it appears to the Commission that such action is necessary or appropriate in the public interest, for the protection of investors, or otherwise in furtherance of the purposes of the Act. If the Commission takes such action, the Commission shall institute proceedings to determine whether the proposed rule should be approved or disapproved.

IV. Solicitation of Comments

Interested persons are invited to submit written data, views and arguments concerning the foregoing, including whether the proposed rule change is consistent with the Act. Comments may be submitted by any of the following methods:

Electronic Comments

• Use the Commission's internet comment form (https://www.sec.gov/rules/sro.shtml); or

• Send an email to rule-comments@sec.gov. Please include file number SR-BX-2026-006 on the subject line.

Paper Comments

• Send paper comments in triplicate to Secretary, Securities and Exchange Commission, 100 F Street NE, Washington, DC 20549-1090.

All submissions should refer to file number SR-BX-2026-006. This file number should be included on the subject line if email is used. To help the Commission process and review your comments more efficiently, please use only one method. The Commission will post all comments on the Commission's internet website (https://www.sec.gov/rules/sro.shtml). Copies of the filing will be available for inspection and copying at the principal office of the Exchange. Do not include personal identifiable information in submissions; you should submit only information that you wish to make available publicly. We may redact in part or withhold entirely from publication submitted material that is obscene or subject to copyright protection. All submissions should refer to file number SR-BX-2026-006 and should be submitted on or before February 24, 2026.

For the Commission, by the Division of Trading and Markets, pursuant to delegated authority.¹²
¹² 17 CFR 200.30-3(a)(12).
Sherry R. Haywood,
Assistant Secretary.

[FR Doc. 2026-02116 Filed 2-2-26; 8:45 am]

BILLING CODE 8011-01-P